DEPARTMENT OF THE INTERIOR

Bureau of Land Management

[AA-9014-A, AA-9014-A2; LLAK940000-L14100000-HY0000-P]

Alaska Native Claims Selection

AGENCY: Bureau of Land Management, Interior.

ACTION: Notice of decision approving lands for conveyance.

SUMMARY: As required by 43 CFR 2650.7(d), notice is hereby given that an appealable decision will be issued by the Bureau of Land Management (BLM) to Paimiut Corporation. The decision approves the surface estate in certain lands for conveyance pursuant to the Alaska Native Claims Settlement Act (ANCSA) (43 U.S.C. 1601, et seq.). The lands approved for conveyance lie partially within a national wildlife refuge in existence on the date ANCSA was enacted, December 18, 1971. As provided by ANCSA, the subsurface estate in the lands lying outside the refuge will be conveyed to Calista Corporation when the surface estate is conveyed to Paimiut Corporation. The subsurface estate in the lands lying within the refuge is not available for conveyance to Calista Corporation and will be reserved to the United States at the time of conveyance. The lands are in the vicinity of Paimiut, Alaska and are described as:

Lands Within the Clarence Rhode National Wildlife Refuge (Executive Order 4584), Now Known as the Yukon Delta National Wildlife Refuge

Surface estate to be conveyed to Paimiut Corporation; subsurface estate to be reserved to the United States

Seward Meridian, Alaska

T. 18 N., R. 90 W.,

Secs. 12 and 13.

Containing 791.32 acres.

LANDS OUTSIDE THE CLARENCE RHODE NATIONAL WILDLIFE REFUGE (EXECUTIVE ORDER 4584), NOW KNOWN AS THE YUKON DELTA NATIONAL WILDLIFE REFUGE

Surface estate to be conveyed to Paimiut Corporation subsurface to be conveyed to Calista Corporation

Seward Meridian, Alaska

T. 19 N., R. 92 W.,

Secs. 28 and 34.

Containing 21.36 acres.

Notice of the decision will also be published once a week for four consecutive weeks in The Delta Discovery.

DATES: Any party claiming a property interest in the lands affected by the decision may appeal the decision in accordance with the requirements of 43 CFR Part 4 within the following time limits:

1. Unknown parties, parties unable to be located after reasonable efforts have been expended to locate, parties who fail or refuse to sign their return receipt, and parties who receive a copy of the decision by regular mail which is not certified, return receipt requested, shall have until January 15, 2014 to file an appeal.

2. Parties receiving service of the decision by certified mail shall have 30 days from the date of receipt to file an appeal.

Parties who do not file an appeal in accordance with the requirements of 43 CFR Part 4 shall be deemed to have waived their rights. Notices of appeal transmitted by electronic means, such as facsimile or email, will not be accepted as timely filed.

ADDRESSES: A copy of the decision may be obtained from: Bureau of Land Management, Alaska State Office, 222 West Seventh Avenue, # 13, Anchorage, AK 99513-7504.

FOR FURTHER INFORMATION CONTACT: The BLM by phone at 907-271-5960 or by email at blm_ak_akso_public_room@blm.gov. Persons who use a Telecommunications Device for the Deaf (TDD) may call the Federal Information Relay Service (FIRS) at 1-800-877-8339 to contact the BLM during normal business hours. In addition, the FIRS is available 24 hours a day, 7 days a week, to leave a message or question with the BLM. The BLM will reply during normal business hours.

Richard Thwaites,
Land Transfer Resolution Specialist, Division of Lands and Cadastral.

[FR Doc. 2013-29783 Filed 12-13-13; 8:45 am]

BILLING CODE 4310-JA-P